DEPARTMENT OF ENERGY

FEDERAL ENERGY REGULATORY COMMISSION

[Docket No. EL00-95-007, et al.]

San Diego Gas & Electric Company, et al.; Electric Rate and Corporate Regulation Filings

January 5, 2001.

Take notice that the following filings have been made with the Commission:

1. San Diego Gas & Electric Company Complainant, v. Sellers of Energy and Ancillary Services Into Markets Operated by the California Independent System Operator and the California Power Exchange, Respondents

[Docket No. EL00-95-007]

Take notice that on December 29, 2000, San Diego Gas & Electric Company (SDG&E) tendered for filing pursuant to Ordering Paragraph (A) of the Commission's December 15, 2000 Order Directing Remedies for California Wholesale Electric Markets (the Order), 93 FERC ¶ 61,294, its compliance filing.

The tendered compliance filing made by SDG&E describes how it is effecting within 15 days the Commission's termination of SDG&E's authority to sell its resources into the California Power Exchange Corporation (“PX”) markets.

Copies of this filing were served upon the Public Utilities Commission of the State of California and other interested parties.

Comment date: January 23, 2001, in accordance with Standard Paragraph E at the end of this notice.

2. FirstEnergy Corp. on behalf of: American Transmission Systems, Inc., The Cleveland Electric Illuminating Company, Mid-Atlantic Energy Development Company, Ohio Edison Company, Pennsylvania Power Company, The Toledo Edison Company, FirstEnergy Services Corp., FirstEnergy Generation Corp. and FirstEnergy Nuclear Operating Company

[Docket Nos.EC01-52-000 and ER01-842-000]

Take note that on December 29, 2000, FirstEnergy Corp. filed an application pursuant to section 203 of the Federal Power Act for approval of the transfer of jurisdictional facilities to an affiliated competitive services unit, and for approval pursuant to Section 205 of the Federal Power Act of related intracompany agreements, in furtherance of its corporate separation plan as approved by the Public Utilities Commission of Ohio.

Copies of this filing have been served on the utility commissions in Ohio and Pennsylvania.

Comment date: January 19, 2001, in accordance with Standard Paragraph E at the end of this notice.

3. San Diego Gas & Electric Company Complainant, v. Sellers of Energy and Ancillary Services, Into Markets Operated by the California, Independent System Operator and the California Power Exchange, Respondents

[Docket No. EL00-95-008]

Take notice that on January 2, 2001, the California Independent System Operator Corporation (ISO) tendered a filing in compliance with the Commission's December 15, 2000 Order in EL00-95-000, et al.

The ISO states that this filing has been served on the California Public Utilities Commission and on all parties on the official service.

Comment date: January 23, 2001, in accordance with Standard Paragraph E at the end of this notice.

4. San Diego Gas & Electric Company Complainant, v. Sellers of Energy and Ancillary Services, Into Markets Operated by the California, Independent System Operator and the California Power Exchange, Respondents.

[Docket No. EL00-95-009]

Take notice that on January 2, 2001, the California Power Exchange Corporation (CalPX) tendered for filing in compliance with the Commission's December 15, 2000 Order in Docket No. EL00-95-000, et al.

Comment date: January 23, 2001, in accordance with Standard Paragraph E at the end of this notice.

5. San Diego Gas & Electric Company Complainant, v. Sellers of Energy and Ancillary Services, Into Markets Operated by the California, Independent System Operator and the California Power Exchange, Respondents

[Docket No. EL00-95-010]

Take notice that on January 2, 2001, Pacific Gas and Electric Company tendered for filing with the Federal Energy Regulatory Commission (Commission) a filing in compliance with the Commission's December 15, 2000 Order in Docket No. EL00-95-000, et al.

Comment date: January 23, 2001, in accordance with Standard Paragraph E at the end of this notice.

6. Illinois Power Company

[Docket Nos. ER99-4415-004, ER99-4530-004 and EL00-7-004]

Take notice that on December 20, 2000, Illinois Power Company filed an amendment to its Compliance Filing and Revised Open Access Transmission Tariff filed with the Federal Energy Regulatory Commission on November 9, 2000.

Comment date: January 16, 2001, in accordance with Standard Paragraph E at the end of this notice.

7. Consolidated Edison Company of New York, Inc.

[Docket No. ER01-130-001]

Take notice that on December 29, 2000, Consolidated Edison Company of New York, Inc. (Con Edison), tendered for filing a revised rate schedule in the above-listed docket.

Con Edison states that a copy of this filing has been served by mail upon LIPA.

Comment date: January 19, 2001, in accordance with Standard Paragraph E at the end of this notice.

8. Consolidated Edison Company of New York, Inc.

[Docket No. ER01-160-001]

Take notice that on December 29, 2000, Consolidated Edison Company of New York, Inc. (Con Edison), tendered for filing a revised rate schedule in the above-listed docket.

Con Edison states that a copy of this filing has been served upon O&R.

Comment date: January 19, 2001, in accordance with Standard Paragraph E at the end of this notice.

9. Consolidated Edison Company of New York, Inc.

[Docket No. ER01-161-001]

Take notice that on December 29, 2000, Consolidated Edison Company of New York, Inc. (Con Edison), tendered for filing a revised rate schedule in the above-listed docket.

Con Edison states that a copy of this filing has been served by mail upon Central Hudson.

Comment date: January 19, 2001, in accordance with Standard Paragraph E at the end of this notice.

10. Consolidated Edison Company of New York, Inc.

[Docket No. ER01-471-001]

Take notice that on December 29, 2000, Consolidated Edison Company of New York, Inc. (Con Edison) tendered for filing a revised rate schedule in the above-listed docket.

Con Edison states that a copy of this filing has been served by mail upon Central Hudson.

Comment date: January 19, 2001, in accordance with Standard Paragraph E at the end of this notice.

11. PacifiCorp

[Docket No. ER01-814-000]

Take notice that on December 28, 2000, PacifiCorp tendered for filing in accordance with 18 CFR 35 of the Commission's Rules and Regulations, Long-Term Firm Transmission Service Agreements with Public Service Company of Colorado (PSCO) under PacifiCorp's FERC Electric Tariff, Second Revised Volume No. 11 (Tariff).

Copies of this filing were supplied to the Washington Utilities and Transportation Commission and the Public Utility Commission of Oregon.

Comment date: January 19, 2001, in accordance with Standard Paragraph E at the end of this notice.

12. Duquesne Light Company

[Docket No. ER01-815-000]

Take notice that on December 28, 2000, Duquesne Light Company (DLC), tendered for filing a Service Agreement dated December 28, 2000 with Engage Energy America Corp., under DLC's Open Access Transmission Tariff (Tariff). The Service Agreement adds Engage Energy America Corp. as a customer under the Tariff.

DLC requests an effective date of December 28, 2000 for the Service Agreement.

Comment date: January 19, 2001, in accordance with Standard Paragraph E at the end of this notice.

13. Duquesne Light Company

[Docket No. ER01-816-000]

Take notice that December 28, 2000, Duquesne Light Company (DLC), tendered for filing a Service Agreement dated December 28, 2000 with Engage Energy America Corp. under DLC's Open Access Transmission Tariff (Tariff). The Service Agreement adds Engage Energy America Corp. as a customer under the Tariff.

DLC requests an effective date of December 28, 2000 for the Service Agreement.

Comment date: January 19, 2001, in accordance with Standard Paragraph E at the end of this notice.

14. New England Power Company

[Docket No. ER01-817-000]

Take notice that on December 28, 2000, New England Power Company (NEP), tendered for filing Supplement No. 8 to Service Agreement No. 12 (Eastern Edison Company) under Montaup Electric Company, FERC Electric Tariff, First Revised Volume No. 1 (Tariff No. 1).

The Supplement provides for NEP (as successor to Montaup Electric Company (Montaup)) to make a lump sum payment to its affiliate, Massachusetts Electric Company (as successor to Eastern Edison Company), of $10.3 million on or before December 29, 2000, reducing the Montaup Contract Termination Charge factor recovered under Service Agreement No. 12 to 1.95 cents per kWh for the year 2001.

Comment date: January 19, 2001, in accordance with Standard Paragraph E at the end of this notice.

15. New England Power Company

[Docket No. ER01-818-000]

Take notice that on December 28, 2000, New England Power Company (as successor to Montaup Electric Company) (NEP), tendered for filing Supplement No. 7 to Service Agreement No. 12 (Eastern Edison Company) under Montaup Electric Company, FERC Electric Tariff, First Revised Volume No. 1. The Supplement takes the form of a Stipulation and Agreement between Massachusetts Electric Company (as successor to Eastern Edison Company) and NEP (as successor to Montaup Electric Company).

Comment date: January 19, 2001, in accordance with Standard Paragraph E at the end of this notice.

16. California Independent System Operator Corporation

[Docket No. ER01-819-000]

Take notice that on December 28, 2000, the California Independent System Operator Corporation (ISO), tendered for filing a revision to the ISO Tariff, Amendment No. 34 for acceptance by the Commission. The ISO states that the purpose of the amendment is to clarify certain issues associated with implementation of the new transmission Access Charge methodology proposed in Amendment No. 27. In addition, the ISO is providing information as to the new transmission Access Charge rates that will be in effect if the Commission approves the City of Vernon joining the ISO effective January 1, 2001 and the amount of Firm Transmission Rights that will be given to Vernon in accordance with the ISO Tariff.

The ISO is requesting waiver of the 60-day notice requirement to allow the amendment to be made effective January 1, 2001.

The ISO states that this filing has been served the Public Utilities Commission of California, the California Energy Commission, the California Electricity Oversight Board, and all parties, including Vernon, with effective Scheduling Coordinator Agreements under the ISO Tariff.

Comment date: January 19, 2001, in accordance with Standard Paragraph E at the end of this notice.

17. New England Power Company

[Docket No. ER01-820-000]

Take notice that on December 28, 2000, New England Power Company (NEP), tendered for filing Supplement No. 33 to Service Agreement No. 23 between NEP and The Narragansett Electric Company (Narragansett) under NEP's Primary Service for Resale Tariff (Tariff No. 1) and Supplement No. 18 to Service Agreement No. 20 between NEP and Massachusetts Electric Company (Mass. Electric) under Tariff No. 1.

Supplement No. 33 to the Narragansett Service Agreement provides that on or before December 29, 2000, NEP shall make a lump sum payment to Narragansett of $5 million. The resulting Narragansett Contract Termination Charge (CTC) factor will be reduced from 1.15 cents per kWh to 0.80 cents per kWh for the year 2001. Supplement No. 18 to the Mass. Electric Service Agreement provides that on or before December 29, 2000, NEP shall make a lump sum payment to Mass. Electric of $52.2 million. Supplement No. 18 also makes two adjustments to the Mass. Electric CTC formula. The resulting Mass. Electric CTC factor will be reduced from 1.32 cents per kWh to 0.98 cents per kWh for the year 2001.

Comment date: January 19, 2001, in accordance with Standard Paragraph E at the end of this notice.

18. Duke Electric Transmission

[Docket No. ER01-821-000]

Take notice that on December 28, 2000, Duke Electric Transmission (Duke), tendered for filing amendments to its Network Integration Transmission Service Agreement with the Southeastern Power Administration.

Duke requests that the amendments be made effective January 1, 2001.

Comment date: January 19, 2001, in accordance with Standard Paragraph E at the end of this notice.

19. PECO Energy Company

[Docket No. ER01-822-000]

Take notice that on December 28, 2000, PECO Energy Company (PECO), tendered for filing under Section 205 of the Federal Power Act, 16 U.S.C. S 792 et seq., an Agreement dated December 18, 2000 with ACN Power, Inc. (ACN) under PECO's FERC Electric Tariff Original Volume No. 1 (Tariff).

PECO requests an effective date of December 18, 2000 for the Agreement.

PECO states that copies of this filing have been supplied to ACN Power, Inc. and to the Pennsylvania Public Utility Commission.

Comment date: January 19, 2001, in accordance with Standard Paragraph E at the end of this notice.

20. Public Service Company of New Hampshire

[Docket No. ER01-823-000]

Take notice that on December 28, 2000, Public Service Company of New Hampshire (PSNH), tendered for filing an information statement concerning PSNH's fuel and purchased power adjustment clause charges and credits for the following periods.

January 1, 2000 to June 30, 2000

July 1, 2000 to December 31, 2000

The information statement is submitted pursuant to a settlement agreement approved by the Commission in Publ Serv. Co. Of New Hampshire, 57 FERC ¶ 61,068 (1991), and a settlement stipulation approved by the Commission by Letter Order in Docket Nos. ER91-143-000, ER91-235-000 and EL91-15-000, dated July 22, 1992.

Copies of this filing were served upon the Town of Ashland Electric Company and the New Hampton Village Precinct.

Comment date: January 19, 2001, in accordance with Standard Paragraph E at the end of this notice.

21. American Transmission Company LLC

[Docket No. ER01-825-000]

Take notice that on December 29, 2000, American Transmission Company LLC (ATCLLC), tendered for filing an Interim Interconnection Agreement between ATCLLC and LSP-Whitewater Limited Partnership.

ATCLLC requests an effective date of January 1, 2001.

Comment date: January 19, 2001, in accordance with Standard Paragraph E at the end of this notice.

22. American Transmission Company LLC

[Docket No. ER01-826-000]

Take notice that on December 29, 2000, American Transmission Company LLC (ATCLLC), tendered for filing a Network Operating Agreement and Network Integration Transmission Service Agreement between ATCLLC and Edison Sault Electric Company.

ATCLLC requests an effective date of January 1, 2001.

Comment date: January 19, 2001, in accordance with Standard Paragraph E at the end of this notice.

23. WEC Operating Companies

[Docket No. ER01-827-000]

Take notice that on December 29, 2000, the Wisconsin Energy Corporation Operating Companies (WEC Operating Companies), tendered for filing FERC Electric Tariff Original Volume No. 2 (the Joint Ancillary Services Tariff) of WEC Operating Companies consisting of Wisconsin Electric Power Company and Edison Sault Electric Company and also submitted First Revised Page No. 1 of WEC Operating Companies FERC Electric Tariff First Revised Volume No. 1, Notice of Cancellation of WEC Operating Companies Joint Open Access Transmission Tariff, with a requested effective date the later of the date of FERC's approval of WEC Operating Companies Joint Ancillary Services Tariff, January 1, 2001, or the Operation Date of the American Transmission Company, LLC (ATCLLC).

The WEC Operating Companies state that the Commission has recently approved the transfer of their transmission facilities to ATCLLC, which does not own or control any generation resources. Because the transmission facilities historically owned by Wisconsin Electric Power Company and Edison Sault Electric Company will be owned and operated by ATCLLC, the WEC Operating Companies will sell specified ancillary services under a Joint Ancillary Services Tariff and will cancel the WEC Operating Companies' Joint Open Access Transmission Tariff. The WEC Operating Companies state that the rates for ancillary services available under the Joint Ancillary Services Tariff are identical to rates that were previously incorporated in the Joint Open Access Transmission Tariff of the WEC Operating Companies. In order to comply with FERC Order No. 888, ATCLLC and eligible customers may purchase ancillary services from the WEC Operating Companies in accordance with the rates, terms and conditions of the Joint Ancillary Services Tariff.

The WEC Operating Companies request an effective date for the Joint Ancillary Services Tariff and the cancellation of the WEC Operating Companies Joint Open Access Transmission Tariff of the later of January 1, 2001, or the operation date of ATCLLC.

Comment date: January 19, 2001, in accordance with Standard Paragraph E at the end of this notice.

24. Wisconsin Electric Power Company

[Docket No. ER01-828-000]

Take notice that on December 29, 2000, Wisconsin Electric Power Company tendered for filing a Notice of Cancellation of FERC Rate Schedules Nos. 81 and 82.

Wisconsin Electric requests that cancellation be effective on January 1, 2001.

Comment date: January 19, 2001, in accordance with Standard Paragraph E at the end of this notice.

25. WEC Operating Companies

[Docket No. ER01-829-000]

Take notice that on December 29, 2000, Wisconsin Energy Corporation Operating Companies (WEC Operating Companies) and American Transmission Company LLC (ATCLLC), tendered for filing seven Notices of Assignment that WEC Operating Companies will assign to ATCLLC Service Agreement Nos. 16, 17, 126, 162, 166, 188 and 189 under the WEC Operating Companies, FERC Electric Tariff Original Volume No. 1 (Joint Open Access Transmission Tariff) for service under ATCLLC's FERC Electric Tariff Original Volume No. 1.

WEC Operating Companies and ATCLLC are requesting an effective date for the assignment of the later of January 1, 2001 or the operation date of ATCLLC.

Comment date: January 19, 2001, in accordance with Standard Paragraph E at the end of this notice.

26. Indeck Pepperell Power Associates

[Docket No. ER01-830-000]

Take notice that on December 29, 2000, Indeck Pepperell Power Associates, Inc. (Indeck Pepperell), tendered for filing with the Federal Energy Regulatory Commission a Power Purchase and Sale Agreement (Service Agreement) between Indeck Pepperell and Enron Power Marketing, Inc. (EPMI), dated December 27, 2000, for service under Rate Schedule FERC No. 1.

Indeck Pepperell requests that the Service Agreement be made effective as of January 1, 2001.

Comment date: January 19, 2001, in accordance with Standard Paragraph E at the end of this notice.

27. San Diego Gas & Electric Company

[Docket No. ER01-831-000]

Take notice that on December 29, 2000, San Diego Gas & Electric Company (SDG&E), tendered for filing a revision to its Transmission Owner Tariff.

The tendered tariff revisions would implement Amendment 27 to the California Independent System Operator (ISO) Tariff. Among other things, Amendment 27 provides for the addition of new entities as Participating Transmission Owners (PTOs) under the ISO Tariff. The revisions include rate changes required to implement Amendment 27.

SDG&E requests that these rate changes be made effective January 1, 2001, if the Commission approves the City of Vernon joining the ISO as a PTO effective January 1, 2001.

Copies of this filing were served upon the Public Utilities Commission of the State of California and other interested parties.

Comment date: January 19, 2001, in accordance with Standard Paragraph E at the end of this notice.

28. Southern California Edison Company

[Docket No. ER01-832-000]

Take notice that on December 29, 2000, Southern California Edison Company (SCE), tendered for filing a revision to its Transmission Owner Tariff (TO Tariff), FERC Electric Tariff, First Revised Original Volume No. 6. The proposed revision modifies SCE's TO Tariff to accommodate the implementation by the California Independent System Operator Corporation (ISO) of the new Transmission Access Charges (TAC) methodology.

SCE asks that FERC authorize that the changes to the proposed TO Tariff changes be made effective for service rendered on and after January 1, 2001, provided that the City of Vernon, California (Vernon) becomes a Participating Transmission Owner as of January 1, 2001.

A copy of this filing was mailed to the Public Utilities Commission of the State of California, the California Independent System Operator, and the California Electricity Oversight Board, as well as each entity that received party status in Docket Nos. ER00-2019, ER01-315, EL00-105, EL01-14, EC01-14, and ER97-2355-000 et al.

Comment date: January 19, 2001, in accordance with Standard Paragraph E at the end of this notice.

29. Pacific Gas and Electric Company

[Docket No. ER01-833-000]

Take notice that on December 29, 2000, Pacific Gas and Electric Company (PG&E), tendered for filing unexecuted copies of: (i) an Interconnection Agreement between PG&E and Modesto Irrigation District (Modesto) for Mountain House Area; and (ii) a Wholesale Distribution Tariff Service Agreement between PG&E and Modesto (Service Agreement). In its filing, PG&E explains that the Interconnection Agreement (IA) establishes the terms and conditions under which PG&E will provide electric system interconnection between PG&E and Modesto in an area of San Joaquin County, California, known as Mountain House Community Services District (Mountain House). The Service Agreement, which is taken from the pro forma agreement in PG&E's approved Wholesale Distribution Tariff, defines the terms of wholesale distribution service PG&E will provide to Modesto for service to the Mountain House area.

On behalf of itself and Modesto, PG&E requests an effective date of January 1, 2001. This is the date on which new state legislation (A.B. 2638) takes effect, which provides that Modesto will be the exclusive provider of retail electric service in the Mountain House area. PG&E represents that the subject agreements it is submitting for Commission approval are necessary in order to comply with this new state law.

Copies of this filing have been served upon Modesto, the California Independent System Operator Corporation, and the California Public Utilities Commission.

Comment date: January 19, 2001, in accordance with Standard Paragraph E at the end of this notice.

30. American Transmission Company LLC

[Docket No. ER01-834-000]

Take notice that on December 29, 2000, American Transmission Company LLC (ATCLLC), tendered for filing a Network Operating Agreement and Network Integration Transmission Service Agreement between ATCLLC and Stratford Water & Electric Utility.

ATCLLC requests an effective date of January 1, 2001.

Comment date: January 19, 2001, in accordance with Standard Paragraph E at the end of this notice.

31. American Transmission Company LLC

[Docket No. ER01-835-000]

Take notice that on December 29, 2000, American Transmission Company LLC (ATCLLC), tendered for filing an Interim Interconnection Agreement between ATCLLC and SEI Wisconsin LLC.

ATCLLC requests an effective date of January 1, 2001.

Comment date: January 19, 2001, in accordance with Standard Paragraph E at the end of this notice.

32. California Independent System Operator Corporation

[Docket No. ER01-836-000]

Take notice that on December 29, 2000, the California Independent System Operator Corporation (ISO) tendered a proposed amendment (Amendment No. 35) to the ISO Tariff. The modifications proposed in Amendment No. 35 include the following: changes related to distributed Generation, including changes that will clarify the metering and telemetry requirements for distribution-level Generation and changes that will reduce the threshold for participation by Generating Units in the ISO's Ancillary Services markets from 10 MW to 1 MW; modifications that will enhance the ISO's RMR pre-dispatch provisions; the incorporation into the ISO Tariff of requirements for Generators set forth in the Western Systems Coordinating Council Reliability Criteria Agreement; the addition of a mechanism to recover FERC Annual Charges from entities receiving transmission service on the ISO Controlled Grid; extension of the partial waiver of “No Pay” penalties for Participating Loads; a change to the deadline for submission of meter data to the ISO, which will align the Tariff with current practice; and several miscellaneous Tariff revisions necessary to comply with prior Commission orders and to correct typographical errors.

The ISO states that this filing has been served upon the Public Utilities Commission of the State of California, the California Energy Commission, the California Electricity Oversight Board, the owners of RMR Units, and all parties with effective Scheduling Coordinator Service Agreements under the ISO Tariff.

Comment date: January 19, 2001, in accordance with Standard Paragraph E at the end of this notice.

33. PacifiCorp

[Docket No. ER01-837-000]

Take notice that PacifiCorp on December 29, 2000, tendered for filing in accordance with 18 CFR 35 of the Commission's Rules and Regulations, Umbrella Service Agreements with Tuscon Electric Power Company (Tuscon) under PacifiCorp's FERC Electric Tariff, Second Revised Volume No. 11 (Tariff).

Copies of this filing were supplied to the Washington Utilities and Transportation Commission and the Public Utility Commission of Oregon.

Comment date: January 19, 2001, in accordance with Standard Paragraph E at the end of this notice.

34. FPL Energy Vansycle, L.L.C.

[Docket No. ER01-838-000]

Take notice that on December 29, 2000, FPL Energy Vansycle, L.L.C. (Vansycle), tendered for filing an application for authorization to sell wholesale power at market-based rates, and certain ancillary services at market-based rates into the California market. Vansycle also requested that the Commission accept for filing a long-term Power Purchase Agreement for the sale of power from Vansycle to Pacificorp Power Marketing, Inc. as a stand-alone rate schedule under its proposed market rate tariff. Vansycle has requested that this Market Rate Tariff and Power Purchase Agreement become effective upon commencement of service.

Copies of this filing have been served on the Washington Utilities and Transportation Commission, Oregon Public Service Commission, Florida Public Service Commission, Arkansas Public Service Commission, Mississippi Public Service Commission, Louisiana Public Service Commission, Texas Public Utility Commission, and the Council of the City of New Orleans.

Comment date: January 19, 2001, in accordance with Standard Paragraph E at the end of this notice.

35. Pacific Gas and Electric Company

[Docket No. ER01-839-000]

Take notice that on December 29, 2000, Pacific Gas and Electric Company (PG&E), tendered for filing proposed revisions to its Transmission Owner Tariff (TO Tariff), FERC Electric Tariff Volume No. 5. These revisions are intended to facilitate implementation by the California Independent System Operator Corporation (ISO) of its revised Transmission Access Charge (TAC) methodology and corresponding rates under its tariff.

PG&E requests that these TO Tariff revisions become effective on January 1, 2001, if the City of Vernon, California is a party to the Transmission Control Agreement among the ISO and Participating Transmission Owners as of that date.

Copies of this filing were served upon the Public Utilities Commission of the State of California and all interested parties.

Comment date: January 19, 2001, in accordance with Standard Paragraph E at the end of this notice.

36. Consumers Energy Company

[Docket No. ER01-840-000]

Take notice that on December 29, 2000 Consumers Energy Company (Consumers), tendered for filing an Interconnection Agreement between Consumers and American Transmission Company, LLC (ATCLLC) and a Coordinated Operating Agreement (jointly Agreements) between Consumers and Wisconsin Electric Power Company (Wisconsin Electric), both dated December 26, 2000. The Agreements are to replace a Network Integration Transmission Service Agreement and a Network Operating Agreement between Consumers and Edison Sault Electric Company, scheduled to terminate December 31, 2000.

Consumers requested that the Agreements be allowed to become effective January 1, 2001.

Copies of the filing were served upon ATCLLC, Wisconsin Electric, the Wisconsin Public Service Commission and the Michigan Public Service Commission.

Comment date: January 19, 2001, in accordance with Standard Paragraph E at the end of this notice.

37. Xcel Energy Services Inc.

[Docket No. ER01-841-000]

Take notice that on December 29, 2000, Xcel Energy Services Inc., (Xcel Services) on behalf of Southwestern Public Service Company (SPS), tendered for filing pursuant to Section 206 of the Federal Power Act Amended and Restated Agreements for Wholesale Full Requirements Electric Power Service between SPS and Central Valley Electric Cooperative, Inc., Farmers' Electric Cooperative, Inc., Lea County Electric Cooperative, Inc., Lyntegar Electric Cooperative, Inc., and Roosevelt County Electric Cooperative, Inc.

Xcel Services requests an effective date for the revised Amended and Restated Agreements as soon as practical, but in no event after April 30, 2001. Accordingly, to the extent necessary, Xcel Services seeks waiver of the Commission's filing requirements. Xcel Services has posted the filing according to the requirements of 18 CFR 35.2(d).

Copies of the filing are available for public inspection in SPS's offices in Amarillo, Texas.

Comment date: January 19, 2001, in accordance with Standard Paragraph E at the end of this notice.

38. Wisconsin Power & Light Company

[Docket No. ER01-843-000]

Take notice that on December 28, 2000, Wisconsin Power & Light Company (WPL), tendered for filing an amended Power Supply Agreement with WPPI. WPL also refiled its PR-1 rate schedule in compliance with Commission Order No. 614.

WPL indicates that copies of the filing have been provided to WPPI and to the Public Service Commission of Wisconsin.

Comment date: January 19, 2001, in accordance with Standard Paragraph E at the end of this notice.

39. San Diego Gas & Electric Company

[Docket No. ER01-844-000]

Take notice that on December 28, 2000, San Diego Gas & Electric (SDG&E), tendered for filing a change in rate for the Transmission Revenue Balancing Account Adjustment set forth in its Transmission Owner Tariff (TO Tariff). The effect of this rate change is to reduce rates for jurisdictional transmission service utilizing that portion of the California Independent System Operator-Controlled Grid owned by SDG&E.

SDG&E requests that this rate change be made effective January 1, 2001.

Copies of this filing were served upon the Public Utilities Commission of the State of California and all interested parties.

Comment date: January 19, 2001, in accordance with Standard Paragraph E at the end of this notice.

40. FirstEnergy Generation Corp.

[Docket No. ER01-845-000]

Take notice that on December 28, 2000, FirstEnergy Generation Corp. (Genco), a newly-formed generation company subsidiary of FirstEnergy Corp., tendered for filing its FERC Electric Tariff, Original Volume No. 1 (the Tariff), pursuant to which it is proposing to make sales of electricity to wholesale purchasers at market-based rates. The Tariff also establishes rates, terms and conditions for assignment by Genco of transmission services it has reserved for its own use.

Genco has requested to have the Tariff accepted for filing and permitted to become effective on January 1, 2001, and to have the FERC grant waivers and other authorizations with respect to its regulations that are similar to those granted to other utility-affiliated generation companies.

Comment date: January 19, 2001, in accordance with Standard Paragraph E at the end of this notice.

41. Wisconsin Electric Power Company

[Docket No. ER01-846-000]

Take notice that on December 28, 2000, Wisconsin Electric Power Company (Wisconsin Electric), tendered for filing a supplement to a Network Integration Transmission Service Agreement between itself and Oconto Falls Electric and Water Commission (Oconto Falls). The supplement reduces the monthly distribution demand charge paid by Oconto Falls under Service Agreement No. 96, under Wisconsin Energy Corporation Operating Companies FERC Electric Tariff, Volume No. 1.

Wisconsin Electric requests an effective date of May 15, 1996 and waiver of the Commission's notice requirements. Wisconsin Electric will refund to Oconto Falls the amount of the distribution demand charge collected above the new charge, with interest, since service commencement.

Copies of the filing have been served on Oconto Falls, the Public Service Commission of Wisconsin and the Michigan Public Service Commission.

Comment date: January 19, 2001, in accordance with Standard Paragraph E at the end of this notice.

42. Wisconsin Electric Power Company

[Docket No. ER01-847-000]

Take notice that on December 28, 2000, Wisconsin Electric Power Company (Wisconsin Electric), tendered for filing, pursuant to Section 35.13 of the Commission's regulations, 18 CFR 35.12, an amendment to Exhibit C of a Revised Power Sales Agreement between Wisconsin Electric and Wisconsin Public Power, Inc. (WPPI). The purpose of the amendment is to reflect the fact that, as of January 1, 2001, the price for wholesale distribution service to WPPI will be set forth in a new wholesale distribution agreement between Wisconsin Electric and WPPI, and will no longer be set forth in Exhibit C.

Comment date: January 19, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-1013 Filed 1-11-01; 8:45 am]

BILLING CODE 6717-01-U